DEPARTMENT OF HOMELAND SECURITY

Coast Guard

[Docket No. USCG-2022-0209]

National Merchant Marine Personnel Advisory Committee; September 2022 Meeting

AGENCY: Coast Guard, Department of Homeland Security.

ACTION: Notice of federal advisory committee meeting.

SUMMARY: The National Merchant Marine Personnel Advisory Committee (Committee) will conduct a series of meetings over three days in Dania Beach, FL to discuss issues relating to personnel in the United States Merchant Marine including the training, qualifications, certification, documentation, and fitness of mariners.

DATES:

Meetings: The National Merchant Marine Personnel Advisory Committee is scheduled to meet on Wednesday, September 7, 2022, from 9:00 a.m. until 4:30 p.m. Eastern Daylight Time (EDT), Thursday, September 8, 2022, from 9:00 a.m. until 4:30 p.m. (EDT), and Friday, September 9, 2022, from 9:00 a.m. until 3:00 p.m. (EDT). Committee meetings on Wednesday, September 7, and Thursday, September 8, will include periods during which the Committee will break into subcommittees. These meetings may adjourn early if the Committee has completed its business.

Comments and supporting documentation: To ensure your comments are received by Committee members before the meeting, submit your written comments no later than August 24, 2022.

ADDRESSES: The meeting will be held at the STAR Center, 2 West Dixie Highway, Dania Beach, FL 33004, additional information about the facility can be found at: www.star-center.com.

Pre-registration Information: Pre-registration is required for in-person access to the meeting. If you are not a member of the Committee and do not represent the Coast Guard, you must request in-person attendance by contacting the individual listed in the FOR FURTHER INFORMATION CONTACT section of this notice.

Attendees at the meeting will be required to follow COVID-19 safety guidelines promulgated by the Centers for Disease Control and Prevention (CDC), which may include the need to wear masks and the completion of STAR Center's pre-arrival questionnaire for visitors, which can be accessed at (www.star-center.com). You may be asked to show this form when entering the facility. Masks will be provided for attendees upon request. CDC guidance on COVID protocols can be found here: https://www.cdc.gov/coronavirus/2019-ncov/communication/guidance.html.

The National Merchant Marine Personnel Advisory Committee is committed to ensuring all participants have equal access regardless of disability status. If you require reasonable accommodation due to a disability to fully participate, please email Mrs. Megan Johns Henry at megan.c.johns@uscg.mil or call at (202) 372-1255 as soon as possible.

Instructions: You are free to submit comments at any time, including orally at the meetings as time permits, but if you want Committee members to review your comment before the meeting, please submit your comments no later than August 24, 2022. We are particularly interested in comments on the issues in the “Agenda” section below. We encourage you to submit comments through the Federal eRulemaking Portal at https://www.regulations.gov. If your material cannot be submitted using https://www.regulations.gov, email the individual in the FOR FURTHER INFORMATION CONTACT section of this document for alternate instructions. You must include the docket number USCG-2022-0209. Comments received will be posted without alteration at http://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mrs. Megan Johns Henry, Alternate Designated Federal Officer of the National Merchant Marine Personnel Advisory Committee, telephone (202) 372-1255, or email megan.c.johns@uscg.mil.

SUPPLEMENTARY INFORMATION: Notice of these meetings is in compliance with the Federal Advisory Committee Act (5 U.S.C. appendix). The National Merchant Marine Personnel Advisory Committee is authorized by section 601 of the Frank LoBiondo Act of 2018, and is codified in 46 U.S.C. 15103. The Committee operates under the provisions of the Federal Advisory Committee Act (5 U.S.C. appendix), and 46 U.S.C. 15109. The National Merchant Marine Personnel Advisory Committee provides advice and recommendations to the Secretary of Homeland Security through the Commandant of the United States Guard on matters relating to personnel in the United States Merchant Marine including the training, qualifications, certification, documentation, and fitness of mariners.

Agenda

The National Merchant Marine Personnel Advisory Committee will meet on Wednesday, September 7, 2022, Thursday, September 8, 2022, and Friday, September 9, 2022 to review, discuss, deliberate and formulate recommendations, as appropriate on the following topics:

Day 1

The agenda for the September 7, 2022 meeting is as follows:

(1) The full Committee will meet briefly to discuss the subcommittees' business/task statements, which are listed under paragraph (9) under Day 3 below.

(2) During the morning session of the meeting, the full Committee will meet to discuss Workforce Issues and the Mariner Shortage.

(3) During the afternoon session of the meeting, subcommittees will then separately address and work on the following task statements, which are available for viewing at https://homeport.uscg.mil/missions/federal-advisory-committees/national-merchant-marine-personnel-advisory-committee- (nmerpac);

(a) Task Statement 21-4, STCW Convention and STCW Code Review;

(b) Task Statement 21-5, Review of Merchant Mariner Rating and Officer Endorsement Job Task Analyses, including amendment Task Statement 21-5A, JTA to Mass Mapping; and

(c) Task Statement 21-9, Sexual Harassment and Sexual Assault- Prevention and Culture Change in the Merchant Marine.

(4) Report of subcommittees. At end of the day, the Chair or Co-Chairs of the subcommittees will report to the full Committee on what was accomplished. The full Committee will not take action on this date and the Chair or Co-Chairs of the subcommittees will present a full report to the Committee on Day 3 of the meeting.

(5) Adjournment of meeting.

Day 2

The agenda for the September 8, 2022 meeting is as follows:

(1) The full Committee will meet briefly to discuss the subcommittees' business/task statements, which are listed under paragraph (9) under Day 3 below.

(2) During the morning session of the meeting, subcommittees will then separately address and work on the following task statements, which are available for viewing at https://homeport.uscg.mil/missions/federal-advisory-committees/national-merchant-marine-personnel-advisory-committee- (nmerpac);

(a) Task Statement 21-4, STCW Convention and STCW Code Review;

(b) Task Statement 21-5, Review of Merchant Mariner Rating and Officer Endorsement Job Task Analyses, including amendment Task Statement 21-5A, JTA to Mass Mapping; and

(c) Task Statement 21-9, Sexual Harassment and Sexual Assault. Prevention and Culture Change in the Merchant Marine.

(3) During the afternoon session of the meeting, subcommittees will then separately address and work on the following task statements, which are available for viewing at https://homeport.uscg.mil/missions/federal-advisory-committees/national-merchant-marine-personnel-advisory-committee- (nmerpac);

(a) Task Statement 21-4, STCW Convention and STCW Code Review;

(b) Task Statement 21-2, Communications Between External Stakeholders and the Mariner Credentialing Program; and

(c) Task Statement 21-9, Sexual Harassment and Sexual Assault, Prevention and Culture Change in the Merchant Marine.

(4) Report of subcommittees. At end of the day, the Chair or Co-Chairs of the subcommittees will report to the full Committee on what was accomplished. The full Committee will not take action on this date and the Chair or Co-Chairs of the subcommittees will present a full report to the Committee on Day 3 of the meeting.

(5) Adjournment of meeting.

Day 3

The agenda for the September 9, 2022 meeting is as follows:

(1) Introduction.

(2) Designated Federal Officer remarks.

(3) Roll call of Committee members and determination of a quorum.

(4) Adoption of the agenda.

(5) Acceptance of Minutes from Committee Meeting Two (May 3, 2022).

(6) Remarks from U.S. Coast Guard Leadership.

(7) Introduction of new task.

(8) Introduction of task addendum.

(9) U.S. Coast Guard presentations.

(10) Reports from the subcommittee Chair or Co-Chairs. The Committee will review the information presented on the following Task Statements and deliberate on any recommendations presented by the subcommittees, recommendations may be approved and completed tasks may be closed. Official action on these topics may be taken:

(a) Task Statement 21-1, Review of IMO Model Courses Being Validated by the IMO HTW Subcommittee

(b) Task Statement 21-2, Communication Between External Stakeholders and the Mariner Credentialing Program, including amendment Task Statement 21-2A, Reviewing Assessments in NVICS for STCW;

(c) Task Statement 21-3, Military Education, Training, and Assessment for STCW and National Mariner Endorsements;

(d) Task Statement 21-04, STCW Convention and STCW Code Review;

(e) Task Statement 21-5, Review of Merchant Mariner Rating and Officer Endorsement Job Task Analyses, including amendment Task Statement 21-5A, JTA to Mass Mapping;

(f) Task Statement 21-6, Sea Service for Merchant Mariner Credential Endorsements;

(g) Task Statement 21-8, Remote Operators of Maritime Autonomous Surface Ships;

(h) Task Statement 21-9, Sexual Harassment and Sexual Assault- Prevention and Culture Change in the Merchant Marine;

(i) Task Statement 22-1, Propulsion Power Limits; and

(j) Task Statement 22-2, Alternative Methods for Meeting STCW Training Requirements at the Operational Level.

(11) Public comment period.

(12) Closing remarks.

(13) Adjournment of meeting.

A copy of all meeting documentation will be available at https://homeport.uscg.mil/missions/federal-advisory-committees/national-merchant-marine-personnel-advisory-committee-(nmerpac) by August 24, 2022. Alternatively, you may contact the individual noted in the FOR FURTHER INFORMATION CONTACT section above.

Public comments or questions will be taken throughout the meetings as the Committee discusses the issues, and prior to deliberations and voting. There will also be a public comment period at the end of the meeting on September 9, 2022 at approximately 2:30 p.m. (EDT). Public comments will be limited to 3 minutes per speaker. Please note that the public comments period will end following the last call for comments.

Please contact the individual listed in the FOR FURTHER INFORMATION CONTACT section to register as a speaker.

Dated: August 15, 2022.
Jeffrey G. Lantz,
Director of Commercial Regulations and Standards.

[FR Doc. 2022-17794 Filed 8-17-22; 8:45 am]

BILLING CODE 9110-04-P